DEPARTMENT OF HOUSING AND URBAN DEVELOPMENT

[Docket No. FR-4509-N-16]

Public Housing Assessment System Resident Service and Satisfaction Scoring Process

AGENCY: Office of the Director, Real Estate Assessment Center, HUD

ACTION: Notice.

SUMMARY: This notice provides additional information to public housing agencies, and members of the public, regarding HUD's process for issuing scores under the Resident Service and Satisfaction Indicator of the Public Housing Assessment System (PHAS). This notice is an update of the Resident Service and Satisfaction Indicator notice on scoring that was published on June 23, 1999. This notice takes into consideration public comment received on the June 23, 1999 notice and reflects the changes made to the PHAS regulations published on January 11, 2000, with certain corrections published on June 6, 2000. Additionally, the content has been revised to provide more detail about the formulas used to compute public housing agency (PHA) scores and to provide more information about requirements concerning the Follow-up Plan, which counts for 3 of the 10 points under the Resident Indicator. The changes made to this notice are discussed in the Supplementary Information section of this notice.

FOR FURTHER INFORMATION CONTACT: For further information contact Wanda Funk, Real Estate Assessment Center, Department of Housing and Urban Development, 1280 Maryland Avenue, SW., Suite 800, Washington, DC 20024; telephone the Technical Assistance Center at 1-888-245-4860 (this is a toll free number). Persons with hearing or speech impairments may access that number via TTY by calling the Federal Information Relay Service at (800) 877-8339. Additional information is available from the REAC Internet Site, http://www.hud.gov/reac.

SUPPLEMENTARY INFORMATION:

1. Purpose of this Notice

The purpose of this notice is to provide additional information about the scoring process for PHAS Indicator #4, Resident Service and Satisfaction. The purposes of the Resident Service and Satisfaction assessment are to measure the level of resident satisfaction with living conditions at their public housing agency (PHA), to facilitate positive interaction and communication between public housing agencies and residents, and to guide PHAs in recognizing areas of concern identified by residents in survey responses. The Resident Service and Satisfaction assessment is an important indicator of a PHA's performance.

Of the total 100 points available for a PHAS score, a PHA may receive up to ten points under PHAS Indicator #4. Unlike PHAS Indicators #1, #2, or #3, PHAs will not be designated as “troubled” for a failing score under Indicator #4 in accordance with 24 CFR 902.67. The Resident Service and Satisfaction score, however, is included in the aggregate PHAS score.

The information provided in this notice was originally published on May 13, 1999 (64 FR 26236) and updated on June 23, 1999 (64 FR 33712). HUD solicited public comment on both the May 13, 1999, and June 23, 1999, notices. This Resident Service and Satisfaction Scoring Process notice, published in this edition of the Federal Register, has been revised from the June 23, 1999, notice, to reflect the public comments received on the previous notices and to reflect the changes made to the PHAS regulations by the final rule published on January 11, 2000 (65 FR-1712).

This notice includes the following major revisions and additions to the June 23, 1999 version:

• A detailed explanation of the weighted-average scoring methodology used to calculate PHA scores has been added.

• A table providing the weights assigned to each question and the scores assigned to each response has been provided. See Appendix 1.

• The threshold which exempts a PHA from the requirement to submit a Follow-up Plan has been changed from 90% to 75%.

• The manner in which the Survey Follow-up Plan is submitted to HUD has been changed. A PHA will receive three points for certifying that the Follow-up Plan will be developed as a supplement to its Annual Plan.

2. Elements of Scoring

The score of the Resident Service and Satisfaction assessment for all PHAs will be based upon two components, plus a threshold requirement.

First Component. The first component will be the aggregate score of the survey results.

Second Component. The second component will be a score based on the PHA's certifications that plans for survey implementation and follow-up corrective actions have been prepared by the PHA and have or will be acted upon. HUD's PHAS regulation at 24 CFR 902.53 provides that the second component will be a point score based on the level of implementation and follow-up or corrective actions based on the survey results.

Each of the components is worth five points, for a total of ten points, as outlined under Indicator #4 in the PHAS final rule (24 CFR 902.53). A PHA will receive a passing score if it receives at least six points of the available ten points. As noted earlier in this notice, however, a failing score under this Indicator will not cause a PHA to be designated as troubled.

Threshold Requirement. A PHA will not receive any points under PHAS Indicator #4 if the survey process is not managed as directed by HUD, the survey results are determined to have been altered, or the unit addresses are not updated and verified as described at 24 CFR 902.51. The threshold requirement is subject to verification.

The following chart shows the scoring components and point range.

Scoring components | Point range
Component One—Survey Results (5 points):
Maintenance and Repair Section | 0-1
Communication Section | 0-1
Safety Section | 0-1
Services Section | 0-1
Neighborhood Section | 0-1
Component Two—Implementation/Follow-Up Plan (5 points):
Survey Implementation Plan | 0 or 2
Survey Follow-up Plan | 0 or 3
Total Possible Score | 10

3. Scoring Process

The scoring process for the Resident Service and Satisfaction Indicator is dependent upon electronic updating, submission, and certification of information by PHAs. Although this notice discusses these electronic steps in terms of requirements, HUD has made allowance for manual submission of information, as discussed later in the notice.

Unit Address Update and Verification. The scoring process for PHAS Indicator #4 begins with ensuring accurate information about the PHA's units. PHAs will be required to electronically update unit address information initially obtained by the REAC from the recently revised form HUD-50058, Family Report. The REAC will supply a list of current units (listed by development) to PHAs via the internet. PHAs will be asked to make additions, deletions, and corrections to their unit address list. After updating the list, PHAs must verify that the list of unit addresses under their jurisdiction is complete. Any incorrect or obsolete address information will have a detrimental impact on the survey results. A statistically valid number of residents cannot be selected to participate in the survey if the unit address information is incorrect or obsolete. If a PHA does not verify the address information within two months of submission of the list of current units to the PHA by the REAC, and the address information is not valid, the REAC will not be able to conduct the survey at that PHA. Under those conditions, the PHA would not receive any points for the PHAS Resident Service and Satisfaction Indicator.

Electronic Update of Address List. The preferred method for updating a unit address list is electronic updating. If a PHA does not have this capability in-house, the PHA should consider utilizing local resources, such as the library or another local government entity that has internet access. In the event local resources are not available, the PHA may go to the nearest HUD Public and Indian Housing (PIH) program office and assistance will be given to transmit the unit address information. The PIH office will assist the PHA in electronically updating and transmitting its unit address list to the REAC. If circumstances preclude a PHA from updating and submitting its unit address list electronically, HUD will consider granting approval to allow a PHA to submit the updated unit address list information manually. A PHA that seeks approval to update its unit address list manually must ensure that the REAC receives the PHA's written request for manual submission 1 calendar month before the submission due date. The written request must include the reasons why the PHA cannot update the list electronically. The REAC will respond to the PHA's request within 15 calendar days of receipt of the request.

Sampling. A statistically valid number of residents will be chosen to receive the Resident Service and Satisfaction Survey. These residents will be randomly selected using a computerized program based on the total number of occupied and vacant units of the PHA. The Resident Service and Satisfaction assessment takes into account the different properties managed by a PHA by organizing the resident sampling based on the resident representation of each development in relation to the size of the entire PHA resident population. This procedure is known as stratified sampling. For example, if a PHA houses five percent of its residents in a given development, then five percent of the sample will be chosen from that development. A PHA's score, however, will represent the entire population within that agency. Results will not be statistically valid for each development at this time. HUD is committed, however, to developing this capacity in the near future.

Survey Distribution. The Resident Service and Satisfaction Survey will be distributed to the randomly selected sample of residents of each PHA by a third party organization (referred to as the “survey administrator”) designated by HUD. The survey administrator will also be responsible for collecting, scanning, and aggregating results of the survey, and transmitting the survey results to HUD for analysis and scoring. HUD will keep individual responses to the survey confidential.

Component One—Survey Results (5 Points). The Resident Service and Satisfaction Survey form that will be used for the first annual assessment was published in the Federal Register on November 23, 1998, with OMB approval No. 2507-0001. Following the first year of the process, the survey form may be modified for subsequent assessment years (any significant modifications to the form will be published in the Federal Register in accordance with the PHAS regulations). The modifications may include, but are not limited to, rewording of specific questions and possible elimination of some questions. No additional scored questions will be added to the existing Resident Service and Satisfaction Survey without the opportunity to comment as provided in the PHAS regulations. In addition, the five survey sections, as described in 24 CFR 902.53, will not be modified.

Weights have been assigned to individual questions. Answers to some questions on the survey will be used for informational purposes only and will not be calculated into the score for the PHA. For example, questions regarding overall satisfaction with the PHA will not be calculated into the final survey score. The only questions that will be included in the score for the PHA will be questions that are directly related to compliance with the regulations or statutes applicable to the management of public housing. The score for the Resident Service and Satisfaction Survey will be based on a total possible score of five points.

Five Survey Sections. There are five survey sections as follows:

(1) Maintenance and repair (e.g., work order response);

(2) Communication (e.g., perceived effectiveness);

(3) Safety (e.g., perception of building security measures);

(4) Services (e.g., management response to service problems); and

(5) Neighborhood appearance.

Scores for each survey section will be calculated in the following manner. Each section will be given a score between zero and one. For example, if the maintenance and repair survey section has 83 percent of the possible points for that section, then it would be given a score of .83. The total survey score will be the sum of the five survey section scores. Thus, there are five possible points for the survey results. This part of the score will be presented in a numeric format with one decimal place (e.g., 4.3).

These section scores are calculated based upon weights, ranging from 0 to 0.25, assigned to each question. Within each question, the response categories are assigned values ranging from 0% to 125%. Responses are given a value of 125% if the resident indicates that the PHA has exceeded the regulatory requirement on which the question is based.

Specifically, section scores are computed as follows:

(1) The numeric values associated with the responses given by a resident are averaged, based on the question weights, to obtain the respondent's section score. Although some responses may be valued 125%, these section scores are limited to 100% of the section's total points.

(2) The section scores of all respondents in each PHA are averaged, based on the weight of the questions that each resident answered, to obtain the PHA section score.

The scores assigned to each answer and the weights assigned to each question are provided as Appendix 1 to this notice.

Component Two—Implementation and Follow-Up Plans (5 Points). Points awarded for component two are based on the level of implementation of the survey and follow-up on its results, when necessary.

Survey Implementation Plan. Although, as noted earlier, a survey administrator will be responsible for distributing and collecting the survey results, the PHA will be responsible for disseminating information about the survey to its residents based on a Survey Implementation Plan provided by HUD. The Survey Implementation Plan will explicitly outline required marketing activities. The PHA must certify to the dates the implementation activities are carried out. Activities will include, but are not limited to, displaying posters supplied by HUD; conducting meetings with residents; and distributing flyers.

If the PHA certifies to having completed the above activities prior to the date set by HUD, the PHA will receive the full two points for this section. All implementation activities should take place prior to residents' receipt of the survey. HUD will set deadlines for electronic submission of Survey Implementation Plans by PHAs. All Survey Implementation Plans received past the deadline will not be considered, and the PHA will not receive any points for this component.

Survey Follow-up Plan. HUD will require PHAs to develop a Survey Follow-up Plan, if appropriate, based on the results of the survey by section. Follow-up Plans will be required for the lowest-scoring sections based upon thresholds determined by HUD. If a PHA scores .75 (i.e., 75% of the possible points) or higher on a section of the survey, a Follow-up Plan will not be required for that section. If a PHA scores .75 or higher on all sections of the survey, no Follow-up Plan will be required and the PHA will receive the additional three points.

A PHA that is required to develop a Follow-up Plan will do so as part of its Annual Plan. Once the PHA receives its survey results, the PHA must electronically access a template to certify that it will complete its required Follow-up Plan as part of its annual plan. Follow-up actions will be directly related to the five survey sections listed above. The PHA will be able to develop its Survey Follow-up Plan based on areas identified by the survey which need improvement. As part of the Survey Follow-up Plan, the PHA will need to specify the following:

• Actions to be taken in the next fiscal year;

• The target date of completion; and

• The funding source (if required) that will be utilized.

A PHA will receive the full three points for this section by completing its Survey Follow-up Plan certification and developing a Follow-up Plan as part of its Annual Plan. Where appropriate, Field Office staff may offer technical assistance to a PHA regarding the Survey Follow-up Plan. Survey Follow-up Plans shall be retained in the PHA's office for three years, and available for review by HUD auditors or representatives of a duly constituted resident organization. No points will be awarded for this component if a PHA fails to certify and develop its Survey Follow-up Plan.

Audit. Where appropriate, the Survey Follow-up Plan will be subject to audit. If the auditor finds that the plan is not appropriate or that the PHA is not following its plan in good faith, the PHA will not receive the three points for the Survey Follow-up Plan portion of the Resident Service and Satisfaction assessment score.

Submission of Resident Service and Satisfaction Certification. Through the Resident Service and Satisfaction unit address, implementation, and follow-up certifications, the PHA certifies that the resident survey process has been managed as directed by HUD. PHAs are required to electronically submit their Resident Service and Satisfaction certifications. If a PHA does not have this capability in-house, the PHA should consider utilizing local resources, such as the library or another local government entity that has internet access. In the event local resources are not available, the PHA may go to the nearest HUD PIH program office and assistance will be given to the PHA to transmit its Resident Service and Satisfaction certifications.

If circumstances preclude the PHA from reporting electronically, HUD will consider granting approval to allow a PHA to submit its Resident Service and Satisfaction certifications manually. A PHA that seeks approval to submit the certifications manually must ensure that the REAC receives the PHA's written request for manual submission 2 calendar months before the submission due date of the respective Resident Service and Satisfaction certification. The written request must include the reasons why the PHA cannot submit the certification electronically. The REAC will respond to the PHA's request and will manually forward its determination in writing to the PHA.

Technical Review of the Resident Survey. The REAC will consider conducting a technical review of a PHA's resident survey results in cases where the contracted survey administrator can be shown by the PHA to be in error. The burden of proof, however, rests with the PHA to provide objectively verifiable evidence that a technical error occurred. Examples include, but are not limited to, incorrect material being mailed to residents; too few survey forms sent, which could render the sample size invalid; or the PHA's unit addresses were incorrect due to the survey administrator's error, such as unit numbers being omitted from the addresses. A PHA that does not update its unit address list as described above will not be eligible for a technical review based on incorrect addresses.

Dated: June 20, 2000.
Donald J. LaVoy,
Director, Real Estate Assessment Center.

BILLING CODE 4210-01-P

Appendix 1—Survey Answer Scores and Question Weights

Detailed below are the weights assigned to each question in the Resident Service and Satisfaction Survey. These weights are used to determine the score for the survey portion of the Resident Service and Satisfaction Survey. The Resident Service and Satisfaction Survey is worth a total of five points. Sections 2 through 6 of the survey are each worth one point. Section 1 and Section 7 are not included in the scores of the survey and will be used for data gathering purposes. Several questions in Sections 2 through 6 are also not included in the survey score. The questions that are included in the score are identified below.

[FR Doc. 00-16157 Filed 6-27-00; 8:45 am]

BILLING CODE 4210-01-C